DEPARTMENT OF THE INTERIOR

Bureau of Land Management

[LLIDC000000.16XL1109AF .L11200000.MR0000.241A.00; 4500096833]

Notice of Public Meeting, Coeur d'Alene District Resource Advisory Council, Idaho

AGENCY: Bureau of Land Management, Interior.

ACTION: Notice of public meetings.

SUMMARY: In accordance with the Federal Land Policy and Management Act (FLPMA), the Federal Advisory Committee Act of 1972 (FACA), and the Federal Lands Recreation Enhancement Act of 2004 (FLREA), the U.S. Department of the Interior, Bureau of Land Management (BLM) Coeur d'Alene District Resource Advisory Council (RAC) will meet as indicated below.

DATES: The Coeur d'Alene District RAC will meet at the North Fork District Office of the Nez Perce/Clearwater National Forest located at 12730 Highway 12, Orofino, ID 83544. A business meeting will take place the afternoon of Tuesday, October 4, followed by a field tour of the Clearwater River Corridor on Wednesday, October 5. The business meeting will begin at 1:00 p.m. and end no later than 5:00 p.m. The public comment forum will take place from 3:30 p.m. until 4:00 p.m. The field tour will begin at 8:30 a.m. and conclude by 2:00 p.m.

FOR FURTHER INFORMATION CONTACT: Suzanne Endsley, Coeur d'Alene District, Idaho, 3815 Schreiber Way, Coeur d'Alene, Idaho, 83815, Telephone: (208) 769-5004. Email: sendsley@blm.gov.

SUPPLEMENTARY INFORMATION: The 15-member RAC advises the Secretary of the Interior, through the Bureau of Land Management, on a variety of planning and management issues associated with public land management in Idaho. The meeting agenda will include a review of proposed recreation fee increases on multiple sites on the Nez Perce/Clearwater Forest, information on BLM's Planning 2.0 process and updates on projects within the Cottonwood and Coeur d'Alene Field Offices. Additional agenda topics or changes to the agenda will be announced in local press releases. The field tour will include stops at sites along the Clearwater River managed by BLM and the Clearwater Management Council. More information is available at http://www.blm.gov/id/st/en/get_involved/resource_advisory/coeur_d_alene_district.html.

RAC meetings are open to the public. The public may present written comments to the Council. Each formal Council meeting will also have time allocated for hearing public comments. Depending on the number of persons wishing to comment and time available, the time for individual oral comments may be limited. Individuals who plan to attend and need special assistance, such as sign language interpretation or other reasonable accommodations, should contact the BLM as provided below.

Authority: 43 CFR 1784.4-1

Dated: August 29, 2016.
Linda Clark,
BLM Coeur d'Alene District Manager.

[FR Doc. 2016-21414 Filed 9-6-16; 8:45 am]

BILLING CODE 4310-GG-P